DEPARTMENT OF THE INTERIOR

Bureau of Land Management

[NV-030-1990-EX]

Notice of Availability for the Oil-Dri Corporation of Nevada's Reno Clay Plant Project Draft Environmental Impact Statement

AGENCY: Bureau of Land Management, Department of the Interior.

COOPERATING AGENCIES: U.S. Bureau of Indian Affairs, Reno-Sparks Indian Colony, and Washoe County, Nevada.

ACTION: Notice of availability of a draft environmental impact statement (EIS) for the Oil-Dri Corporation of Nevada Reno Clay Plant Project, notice of public meeting, and initiation of a 60-day public comment period.

SUMMARY: Pursuant to section 102(2)(C) of the National Environmental Policy Act (NEPA) and 40 CFR 1500-1508 Council on Environmental Quality Regulations (CEQ), and 43 CFR 3809 Surface Management Regulations, notice is given that the Bureau of Land Management (BLM) Carson City Field Office has prepared, with the assistance of a third-party consultant, a Draft EIS on the proposed Reno Clay Plant Project, and has made the document available for public and agency review.

DATES: Written comments on the Draft EIS must be submitted or postmarked to the BLM no later than July 10, 2001. Written comments may also be presented at a public open house that is scheduled for May 30, 2001, from 5 pm to 7 pm, at the BLM Nevada State Office, 1340 Financial Boulevard, Reno, NV.

ADDRESSES: Written comments on the Draft EIS should be addressed to: Bureau of Land Management, Carson City Field Office, 5665 Morgan Mill Road, Carson City, NV 89701, Attn: Terri Knutson, Oil-Dri EIS Project Manager. Comments may also be sent via electronic mail to the following address: tknutson@nv.blm.gov or via fax: (775) 885-6147. A limited number of copies of the Draft EIS may be obtained at the above BLM Field Office in Carson City, NV. In addition, the Draft EIS is available on the internet via the Carson City Field Office Home Page at: www.nv.blm.gov/carson.

Comments, including names and addresses of respondents, will be available for public review at the above address during regular business hours (7:30 a.m.-5 p.m.), Monday through Friday, except holidays, and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be made available for public inspection in their entirety.

FOR FURTHER INFORMATION CONTACT: Terri Knutson, Oil-Dri EIS Project Manager, Bureau of Land Management, 5665 Morgan Mill Road, Carson City, NV 89701, (775) 885-6156.

SUPPLEMENTARY INFORMATION: Oil-Dri Corporation of Nevada (Oil-Dri) has submitted a Plan of Operations for the construction, operation, and reclamation of a mining operation and processing facility located approximately ten miles north of the Reno/Sparks area in Hungry Valley, Washoe County, Nevada. The proposed mining operation, known as the Reno Clay Plant Project, would be located on 305 acres of public and 40 acres of private land and would result in the development of two open pit mine areas, construction of a processing facility, construction and/or upgrade of haul and access roads, and continued exploration activities. Construction is scheduled to begin in the Fall of 2001 and continue for approximately 20 years.

The Draft EIS analyzes the environmental impacts associated with the proposed mining and processing facilities, two access alternatives, and the no action alternative. Issues analyzed include geology, minerals, paleontology, air resources, aesthetics (visual & noise), water resources, soils, vegetation, range resources, wildlife, special status species, land use, access, recreation, cultural resources, Native American Religious Concerns, social & economic resources, and Environmental Justice.

A copy of the Draft EIS has been sent to all individuals, agencies, and groups who have expressed interest in the project or as mandated by regulation or policy. A limited number of copies are available upon request from the BLM at the address listed above. In addition, the document is available on the Carson City Field Office Home Page at the address above.

Public participation has occurred throughout the EIS process. A Notice of Intent to Prepare an EIS was published in the Federal Register on July 22, 2000 (Pages 43779-43780) and the 30-day public scoping period was initiated. A public open house was held in Reno on August 8, 2000 and additional presentations were made to three Washoe County Citizen Advisory Boards and to a community meeting at the Reno-Sparks Indian Colony.

To assist the BLM in identifying and considering issues and concerns on the proposed action and alternatives, comments on the Draft EIS should be as specific as possible. Comments should also refer to specific pages or chapters in the document. After the comment period ends, all comments will be analyzed and considered by the BLM in preparing the Final EIS.

Dated: April 23, 2001.
John Singlaub,
Manager, Carson City Field Office.

[FR Doc. 01-10912 Filed 5-10-01; 8:45 am]

BILLING CODE 4310-HC-P